DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, November 18, 2009, 1 p.m.-8 p.m.

ADDRESSES: Holiday Inn Santa Fe, 4048 Cerillos Road, Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or e-mail: msantistevan@doeal.gov.

SUPPLEMENTARY INFORMATION: Purpose of the Board: The purpose of the Board is to make recommendations to DOE in the areas of environmental restoration, waste management, and related activities.

Tentative Agenda

1 p.m. Call to Order by Co-Deputy Designated Federal Officers, Ed Worth and Lee Bishop.

Establishment of a Quorum, Lorelei Novak:

• Roll Call;

• Excused Absences.

Welcome and Introductions, Ralph Phelps.

Approval of Agenda.

Approval of September 30, 2009 Meeting Minutes.

1:15 p.m. Old Business:

• Written reports;

• Other items.

1:30 p.m. New Business.

1:45 p.m. Co-Deputy Designated Federal Officers' Report, Ed Worth and Lee Bishop.

2:15 p.m. NNMCAB Annual Evaluation Report, Pam Henline.

2:45 p.m. Break.

3 p.m. Matters From Board Members.

3:30 p.m. Presentation on Los Alamos National Laboratory Groundwater Monitoring System (Existing and New Wells), Danny Katzman.

5 p.m. Dinner Break.

6 p.m. Public Comment Period.

6:15 p.m. Consideration and Action on Recommendation(s).

7:00 p.m. End of Year Report, Michael Graham.

7:45 p.m. Meeting Feedback.

8 p.m. Adjourn, Ed Worth and Lee Bishop.

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org/.

Issued at Washington, DC on October 20, 2009.
Rachel Samuel,
Deputy Committee Management Officer.

[FR Doc. E9-25842 Filed 10-26-09; 8:45 am]

BILLING CODE 6450-01-P